DEPARTMENT OF ENERGY

Federal Energy Regulatory Commission

Combined Notice of Filings #1

October 27, 2008.

Take notice that the Commission received the following electric rate filings:

Docket Numbers: ER03-428-007.

Applicants: ConocoPhillips Company.

Description: ConocoPhillips Co submits a supplement to the 6/27/08 market power and tariff revisions filing.

Filed Date: 10/23/2008.

Accession Number: 20081027-0134.

Comment Date: 5 pm Eastern Time on Thursday, November 13, 2008.

Docket Numbers: ER08-1417-001.

Applicants: Kentucky Utilities Company.

Description: Kentucky Utilities Co submits First Revised Sheet No. 43 et al. to First Revised Rate Schedule FERC No. 184, effective October 15, 2008.

Filed Date: 10/23/2008.

Accession Number: 20081024-0162.

Comment Date: 5 pm Eastern Time on Thursday, November 13, 2008.

Docket Numbers: ER09-119-000.

Applicants: PJM Interconnection, L.L.C.

Description: PJM Interconnection, LLC submits an executed interconnection service agreement with PPL Renewable Energy, LLC et al.

Filed Date: 10/23/2008.

Accession Number: 20081024-0163.

Comment Date: 5 pm Eastern Time on Thursday, November 13, 2008.

Take notice that the Commission received the following open access transmission tariff filings:

Docket Numbers: OA08-4-002.

Applicants: Midwest ISO Transmission Owners.

Description: Midwest ISO Transmission Owners submits revised tariff sheets that are identical to the tariff sheets included in the 8/13/08 filing, except that the attached are designated & paginated etc.

Filed Date: 10/24/2008.

Accession Number: 20081027-0181.

Comment Date: 5 pm Eastern Time on Friday, October 31, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll-free). For TTY, call (202) 502-8659.

Nathaniel J. Davis, Sr.,
Deputy Secretary.

[FR Doc. E8-26024 Filed 10-30-08; 8:45 am]

BILLING CODE 6717-01-P